DEPARTMENT OF ENERGY

Federal Energy Regulatory Commission

[IC07-580-001, FERC Form 580]

Commission Information Collection Activities, Proposed Collection; Comment Request; Extension

April 3, 2007.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received comments from two entities in response to an earlier Federal Register notice of December 14, 2006 (71 FR 75238-75239) and has provided responses to the commenters in its submission to OMB. Copies of the submission were also submitted to the commenters.

DATES: Comments on the collection of information are due by May 7, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC07-580-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676. or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC 580 “Interrogatory on Fuel and Energy Purchase Practices, Docket No. IN79-6”.

2. Sponsor: Federal Energy Regulatory Commission.

3. Control No.: 1902-0137.

The Commission is now requesting that OMB approve and extend the expiration date for an additional three years with no changes to the existing collection. The information filed with the Commission is mandatory.

4. Necessity of the Collection of Information: Submission of the information is necessary for the Commission to carry out its responsibilities in implementing the statutory provisions of the Federal Power Act (FPA). The FPA was amended by the Public Utility Regulatory Policies Act (49 Stat.851; 16 U.S.C. 824d) to require the Commission to review “not less frequently than every two (2) years * * * of practices * * * to ensure efficient use of resources (including economical purchase and use of fuel and electric energy) * * *” The collection of this information is specifically required by Federal statue (FPA Section 205(f)) and thus the Commission lacks authority to allow waivers for the filing of this information. In addition, the Commission entertains requests for confidential treatment pursuant to 18 CFR 388.112 for the coal mine price data and coal rail transportation cost data submitted in response to questions 3(i) and 3(1.2), respectively, only when disclosure would violate the terms of a confidentiality clause of a rail transportation contract. No other requests for confidential treatment are considered. The information is used to: (1) Review as mandated by statute, fuel purchase and cost recovery practices to ensure efficient use of resources, including economical purchase and use of fuel and electric energy, under fuel adjustment clauses on file with the Commission; (2) evaluate fuel costs in individual rate filings; (3) to supplement periodic utility audits. The information has also been used by the Energy Information Administration under a Congressional mandate to study various aspects of coal, oil, and gas transportation rates.

5. Respondent Description: The respondent universe currently comprises 114 companies (on average) subject to the Commission's jurisdiction.

6. Estimated Burden: 3,600 total hours, 114 respondents (average), 57 responses per respondent, and 63.16 hour per response (rounded off and average time)

7. Estimated Cost Burden to respondents: 3,600 hours/2080 hours per years × $122,137 per year = $211,391. The cost per respondent is equal to $1,854.

Statutory Authority: Statutory provisions of sections 205(a) and (e) of the Federal Power Act, 16 U.S.C. 824d.

Philis J. Posey,
Acting Secretary.

[FR Doc. E7-6561 Filed 4-6-07; 8:45 am]

BILLING CODE 6717-01-P